GENERAL SERVICES ADMINISTRATION

[PBS-N01; Docket 2011-0006; Sequence 19]

Notice of Availability To Distribute a Final Environmental Impact Statement (FEIS) for the Construction of a New Land Port of Entry in International Falls, MN

AGENCY: Public Buildings Service, General Services Administration (GSA).

ACTION: Notice of availability.

SUMMARY: The GSA announces its intent to distribute a FEIS under the National Environmental Policy Act (NEPA) of 1969 to assess the potential impacts from the construction and operation of a new land port of entry (LPOE) in International Falls, Minnesota (the “Proposed Action”).

DATES: October 14, 2011.

FOR FURTHER INFORMATION CONTACT: Donald R. Melcher, Jr., GSA Public Buildings Service, Great Lakes Region, Land Ports of Entry Service Center, 230 South Dearborn Street, Room 3600, Chicago, IL 60604, (312) 353-1237, donald.melcher@gsa.gov.

SUPPLEMENTARY INFORMATION:

I. Background

At the request of Customs and Border Protection, the GSA is proposing to construct and operate a larger and improved LPOE which meets their needs and the design requirements of the GSA.

The existing facilities are undersized and functionally obsolete and, consequently, incapable of providing the level of security required. The Proposed Action includes: (a) Acquisition of adjoining land; (b) demolition of existing government structures at the existing LPOE; (c) construction of a main administration building and ancillary support buildings; and (d) incorporation of the principles of sustainable design through the Leadership in Energy and Environmental Design Green Building Rating System of the U.S. Green Building Council.

Alternatives studied include alternative locations and layouts for the components of the LPOE that are identified in the concurrent Feasibility Study including the main administration and ancillary support buildings, the associated transportation network, and parking. A no-build alternative also is being studied that evaluates the consequences of not constructing and operating the LPOE. This alternative is included to provide a basis for comparison to the action alternatives described above as required by the NEPA regulations (40 CFR 1002.14(d)).

The GSA announced the availability of the Draft EIS for the International Falls LPOE Improvements Study on January 14, 2010. A 45-day comment period immediately followed, during which the GSA invited Federal, State and local agencies, organizations and individuals to submit comments on the Draft EIS. A public hearing was held at the Rainy River Community College on January 27, 2010 and a transcript of the hearing was prepared. An advertisement for the public hearing appeared in International Falls' The Daily Journal on two occasions prior to the hearing and advertisements for the public hearing were placed at Boise, Inc., and other prominent locations. Two attendees offered substantive comments during the public hearing. The public hearing was preceded by an open house to allow attendees to view plans of the build alternatives in detail, review the Draft EIS and discuss its content with the GSA, and ask questions. The GSA received eight comment letters and one comment e-mail copies which are contained in the FEIS along with responses to the substantive comments.

After careful consideration of the comments received on the Draft EIS, the GSA identified Alternative 10 as best satisfying the proposed action's purpose and programmatic needs and has the least impact on the human and natural environment. Alternative 10 is identified as the Preferred Alternative in the FEIS and in the Record of Decision (ROD) subject also to Congressional authorization and appropriation of availability of funds, GSA control of the site to complete archaeological investigations and continuity of the tenant agencies' Program of Requirements as they were understood at the time this study was completed.

Following this thirty (30) day notice in the Federal Register, the GSA will issue a ROD at which time its availability will be announced in the Federal Register and local media.

II. Distribution

Copies of the FEIS are being distributed to select stakeholders as well as being made available for public review at the International Falls Public Library, Chamber of Commerce Offices, and Koochiching County Office Building.

Dated: October 6, 2011.
Ann P. Kalayil,
Regional Commissioner, Public Buildings Service, Great Lakes Region.

[FR Doc. 2011-26647 Filed 10-13-11; 8:45 am]

BILLING CODE 6820-A9-P